DEPARTMENT OF COMMERCE

National Oceanic and Atmospheric Administration

50 CFR Part 660

[I.D. 062000B]

Western Pacific Fishery Management Council; Public Meeting

AGENCY: National Marine Fisheries Service (NMFS), National Oceanic and Atmospheric Administration (NOAA), Commerce.

ACTION: Notice of public meeting/public hearing.

SUMMARY: The Western Pacific Fishery Management Council (Council) will hold its 105th meeting in Midway at Midway Atoll. The Council will hold a Precious Corals Plan Team meeting and a public hearing in Honolulu, Hawaii. The Council intends to take action under the Fishery Management Plan for the Precious Corals Fisheries of the Western Pacific Region (FMP) on the framework process governing established measures for adjustments to the harvest quota for exploratory precious coral permit areas in the Western Pacific Region. A public hearing is scheduled during the Plan Team meeting to receive comments on this action.

DATES: The Plan Team meeting and the public hearing will be held on July 6, 2000, from 9 a.m. to 12 p.m. The public hearing will be held on July 6, 2000, at 11:30 a.m. The Council meeting will be held on July 10-11, 2000, from 8 a.m. to 5 p.m.

ADDRESSES: The Plan Team meeting will be held at the Council Offices, 1164 Bishop Street, Honolulu, Hawaii; telephone 808- 522-8220. The Council meeting will be held at Midway Atoll; telephone 808-874-1111. Copies of documents that provide information on options to be discussed at the public hearing are available from the Western Pacific Fishery Management Council, 1164 Bishop St., Suite 1400, Honolulu, HI, 96813.

FOR FURTHER INFORMATION CONTACT: Kitty M. Simonds, Executive Director; telephone 808-522-8220.

SUPPLEMENTARY INFORMATION:

Plan Team Meeting

The agenda for the Plan Team meeting will include the items listed below. The order and time in which agenda items are addressed may change. The Plan Team will meet as late as necessary to complete scheduled business.

1. Introductions

2. Status of the fishery

3. Review of 104th Council Meeting Minutes

4. Adjustment of Exploratory Quota (see agenda item 8 under Council agenda for supplemental information)

5. Confidentiality of Data

6. Other Business

7. Summary of Recommendations

8. Public Hearing

The U.S. Fish and Wildlife Service (FWS) invited the Council to convene a meeting on Midway Atoll to discuss issues relating to the management of fishery resources in the Northwestern Hawaiian Islands (NWHI). The Midway meeting offers Council members and resource managers first-hand interaction with the unique atoll environment and species of the NWHI, National Wildlife Refuges, and ecotourism operation and associated recreational fishing. Discussions will be focused on protected species (seabirds, turtles, monk seals), jurisdiction, research, ecotourism, recreational fishing, and designation of Marine Protected Areas (MPAs).

Council Meeting

The agenda during the Council meeting will include the items listed below. The order and time in which agenda items are addressed may change. The Council will meet as late as necessary to complete scheduled business.

Agenda

1. Introductions

2. Approval of Agenda

3. Approval of Minutes of the Council's 104th meeting

4. Refuge Overview

a. Report on Midway Atoll National Wildlife Refuge

b. Report on Midway recreational fisheries program at Midway

c. Report on research at Midway on monk seals, seabirds, turtles, and coral reefs

d. Report on Hawaiian Islands National Wildlife Refuge

e. Report on other wildlife refuges in the PRIAs

f. Status of Palmyra Atoll

5. Update on activities related to Executive Order 13158 on MPAs and the President's Memorandum on Protection of U.S. Coral Reefs in the NWHI (including ecotourism and bioprospecting)

a. State of Hawaii

b. Office of Hawaiian Affairs

c. FWS

d. NMFS

e. MPAs in Hawaii and American Samoa

f. Research issues including Omnibus Deepwater, monk seals, seabirds, turtles, coral reefs, sharks and lobsters

g. Status of shark eradication program at French Frigate Shoals and final report on commercial bottom longline fishing for sharks in the NWHI

6. Jurisdictional issues: Council/NMFS, FWS, State of Hawaii, Department of Defense

a. Midway

b. Other NHWI

c. PRIAs

7. Preliminary Draft Environmental Impact Statements

a. Precious Corals

b. Crustaceans

c. Bottomfish

d. Alternatives

8. Precious Corals FMP exploratory areas

The Council intends to take action under FMP framework process governing established measures for adjustments to the harvest quota for exploratory precious coral permit areas in the Western Pacific Region.

For 20 years, domestic commercial deep-water precious coral harvest has been dormant. In 1999, largely from advances in the industry, researchers have conducted numerous surveys of the resource around the main Hawaiian Islands and found excellent recovery of the once harvested beds. Newly available highly maneuverable one-manned submersibles are equipped with constant stream video cameras, 180° pilot visibility, on-board computer mapping, and external robotic arms and collecting baskets. This allows for stock assessment concurrent with selective harvest. Because of these advances, the Council has recommended a prohibition on non-selective harvest of precious corals in all waters under its jurisdiction. The Exploratory Area of the Hawaiian Islands, locations where precious corals are believed to exist but have not been investigated, cover 99.97 percent of the viable habitat. Harvesting the current 1,000 kg (2,200 lb) per year Exploratory Area quota has never been attempted. Potential harvesters have claimed that this quota is too low to justify the necessary capital investment required for exploration even using the relatively lower cost non-selective dredging operations. Due to advances in technology and new restrictive harvest guidelines (e.g, proposed prohibition on use of all non-selective gear to harvest precious coral), the Council will consider revising the Exploratory Area quota. Alternatives include: No increase in the quota; increasing the quota to 5,000 kg (11,000 lb) per year with no more than 1,000 kg (2,200 lb) of gold coral; minimum size requirements for gold and pink coral; a maximum harvest quota from any one bank; an increasing the quota to 10,000 kg (22,000 lb) per year with no more than 1,000 kg (2200) of gold coral; minimum size requirements for gold and pink coral; and a maximum harvest quota from any one bank.

9. Other Business

Although non-emergency issues not contained in this agenda may come before the Council for discussion, those issues may not be the subject of formal Council action during this meeting. Council action will be restricted to those issues specifically listed in this document and any issue arising after publication of this document that requires emergency action under section 305(c) of the Magnuson-Stevens Act Fishery Conservation and Management Act, provided the public has been notified of the Council's intent to take final action to address the emergency.

Special Accommodations

This meeting is physically accessible to people with disabilities. Requests for sign language interpretation or other auxiliary aids should be directed to Kitty M. Simonds, 808-522-8220 (voice) or 808-522-8226 (fax), at least 5 days prior to meeting date.

Authority: 16 U.S.C. 1801 et seq.

Dated: June 21, 2000.
Bruce C. Morehead,
Acting Director, Office of Sustainable Fisheries, National Marine Fisheries Service.

[FR Doc. 00-16224 Filed 6-26-00; 8:45 am]

BILLING CODE 3510-22-F